Title 3—

The President

Proclamation 8082 of November 8, 2006

National Farm-City Week, 2006

By the President of the United States of America

A Proclamation

Throughout our history, America's farmers and ranchers have demonstrated the values of determination, faith, love of family, and patriotism. The contributions of America's farmers and ranchers help keep our economy moving forward, and during National Farm-City Week we underscore the vital partnership between America's rural and urban industries.

By providing raw materials, energy, and a safe and healthy food supply, our farmers and ranchers help enrich our lives and create economic opportunities across our Nation. As good stewards of the land, they help preserve the farming industry and way of life for future generations.

Farmers are playing an increasingly important role in reducing our dependence on foreign oil by growing crops such as soybeans and corn that can be used as alternative sources of energy. Our agricultural sector also cooperates with shippers, processors, marketers, transporters, and others to make these vital goods available to the public. My Administration is committed to helping these dedicated individuals succeed, and we must continue investing in agricultural research programs, working to reduce tariffs and other trade barriers, and opening up markets for American products overseas.

During National Farm-City Week, and throughout the year, we honor the farmers, ranchers, and all those working to build strong relationships between our rural and urban communities. Our economy is strong and growing, and behind the numbers are the stories of hard-working Americans who help spur our economic prosperity and feed our country and the world.

NOW, THEREFORE, I, GEORGE W. BUSH, President of the United States of America, by virtue of the authority vested in me by the Constitution and the laws of the United States, do hereby proclaim November 17 through November 23, 2006, as National Farm-City Week. I encourage all Americans to join in recognizing farmers, ranchers, and other professionals who work to produce our agricultural abundance.

IN WITNESS WHEREOF, I have hereunto set my hand this eighth day of November, in the year of our Lord two thousand six, and of the Independence of the United States of America the two hundred and thirty-first.

[FR Doc. 06-9214

Filed 11-13-06; 8:45 am]

Billing code 3195-01-P